DEPARTMENT OF COMMERCE

National Oceanic and Atmospheric Administration

[I.D. 080906A]

South Atlantic Fishery Management Council; Public Meetings

AGENCY: National Marine Fisheries Service (NMFS), National Oceanic and Atmospheric Administration, Commerce.

ACTION: Notice of public hearings.

SUMMARY: The South Atlantic Fishery Management Council (Council) will convene a series of 8 public hearings regarding Amendment 14 to the Snapper Grouper Fishery Management Plan. Amendment 14 will establish a series of 8 marine protected areas (MPAs) in Federal waters off the South Atlantic to protect a portion of the population and habitat of long-lived, slow-growing, deepwater snapper grouper species (snowy grouper, misty grouper, speckled hind, yellowedge grouper, warsaw grouper, golden tilefish, and blueline tilefish) from directed fishing pressure. Proposed as “Type II” MPAs, fishing for and possession of snapper grouper species would be prohibited in the area, but fishermen would be allowed to troll for pelagic species such as tuna, mackerel, and billfish. Amendment 14 includes alternatives for the use of Vessel Monitoring Systems as an enforcement tool for the MPAs.

Additionally, the Council intends to work closely with NOAA Fisheries' Highly Migratory Species Division to prohibit the use of bottom longlines by shark fishermen in the proposed MPAs.

DATES: The public hearings will be held in September 2006. Written comments must be received in the Council office by close of business on September 29, 2006. See SUPPLEMENTARY INFORMATION for the specific dates and times of the public hearings.

ADDRESSES: Written comments should be sent to Bob Mahood, Executive Director, South Atlantic Fishery Management Council, One Southpark Circle, Suite 306, Charleston, SC 29407-4699, or via email to SGAM14@safmc.net. Copies of the Public Hearing Document are available from Kim Iverson, South Atlantic Fishery Management Council, One Southpark Circle, Suite 306, Charleston, SC 29407-4699; telephone: 843-571-4366 or toll free at 866/SAFMC-10.

FOR FURTHER INFORMATION CONTACT: Kim Iverson, South Atlantic Fishery Management Council, One Southpark Circle, Suite 306, Charleston, SC 29407-4699; telephone: 843-571-4366; fax: 843-769-4520; email address: kim.iverson@safmc.net.

SUPPLEMENTARY INFORMATION:

Public Hearing Dates and Locations

All hearings are scheduled to begin at 6 p.m.

September 5, 2006—Hampton Inn, 678 Citadel Haven Drive, Charleston, SC 29414, Phone: 843-573-1200

September 6, 2006—Baywatch Resort, 2701 S. Ocean Boulevard, N. Myrtle Beach, SC 29582, Phone: 843-272-4600

September 7, 2006—Holiday Inn Sunspree, 1706 N. Lumina Avenue, Wrightsville Beach, NC 28480, Phone: 910-256-2231

September 11, 2006—Holton's Seafood Restaurant, 13711 E. Oglethorpe Hwy., Midway, GA 31320, Phone: 912-884-9151

September 12, 2006—Hampton Inn St. Augustine, 430 A1A Beach Boulevard, St. Augustine, FL 32080, Phone: 904-471-4000

September 13, 2006—Hutchinson Island Marriott , 555 NE Ocean Boulevard, Stuart, FL 34996, Phone: 772-225-3700

September 14, 2006—Islander Resort, MM 82.1 Oceanfront, Islamorada, FL 33036, Phone: 305-664-2031

September 19, 2006—The Westin, 2 Grasslawn Avenue, Hilton Head, SC 29928, Phone: 843-681-4000.

Special Accommodations

These meetings are physically accessible to people with disabilities. Requests for sign language interpretation or other auxiliary aids should be directed to the Council office (see ADDRESSES) by September 1, 2006.

Dated: August 9, 2006.
Tracey L. Thompson,
Acting Director, Office of Sustainable Fisheries, National Marine Fisheries Service.

[FR Doc. E6-13279 Filed 8-11-06; 8:45 am]

BILLING CODE 3510-22-S